DEPARTMENT OF STATE

[Public Notice 6579]

Bureau of Educational and Cultural Affairs (ECA)

Request for Grant Proposals: Visual Arts Initiative Program.

Announcement Type: New Cooperative Agreements.

Funding Opportunity Number: ECA/PE/C/CU-09-50.

Key Dates:

Application Deadline: May 19, 2009.

Executive Summary: The Bureau of Educational and Cultural Affairs (ECA) of the U.S. Department of State seeks an organization to assist the Cultural Programs Division of the Office of Citizen Exchanges in all logistical and administrative aspects related to its support of U.S. Embassy sponsored visual arts programs. The visual arts programs to be supported are intended to foster good will, engage foreign audiences, and provide insight into American culture and values. The Visual Arts Initiative (VAI) program will provide funding on a competitive basis for posts to showcase American talent overseas. Over a period of two years, grantee will be responsible for one-way exchanges in the visual arts, providing support to ECA to include cyclical solicitation and review of proposals received from U.S. Missions abroad using ECA-established criteria; packaging and submitting proposals to ECA for final decision; extending financial support to selected U.S. partners, and; to reporting on program results. The Bureau anticipates that approximately $500,000 will be available to support this program.

The Bureau is interested in receiving proposals from organizations with a strong background/thematic expertise in the visual arts, institutional commitment to cultural diplomacy and the role of the United States in the arts, and a successful track-record in conducting international programs in the arts. Organizations that have the expertise, interest, and institutional commitment but lack the required experience of conducting exchanges may wish to consider developing proposals based on consortia type relationships with more experienced, eligible organizations. Please note that for these proposals, the role of each organization must be clearly defined and any sub-granting agreements must be included in the proposal submission.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose

Goals and Objectives

This competition is based on the premise that the arts provide an ideal vehicle for communication between people in the United States and other countries and is well-suited to highlight American innovation, creativity, and democratic values. Cultural exchanges strengthen discourse, nurture the social growth of societies, help counter negative stereotypes and demonstrate U.S. commitment to the arts and to artistic and educational projects of high quality. Under this premise, the Bureau and Public Affairs Sections of U.S. Missions abroad look for opportunities to support selected exhibitions or other projects that showcase the work of U.S. artists abroad and that can be the basis for outreach beyond exhibition halls and into the community. The Bureau therefore offers this new funding opportunity for an organization that will help facilitate this type of cultural diplomacy abroad.

Desired Grantee Qualifications

Applicants should have extensive expertise in the visual arts and in the organization of international programs. Proposals must therefore describe this expertise and reflect a practical understanding of global issues, and demonstrate sensitivity to cultural, political, economic, and social differences. Special attention should be given to describing the applicant organization's experience with planning and implementing international cultural exchange projects. Applicants should outline their project team's capacity for successfully implementing projects of this nature, provide a detailed sample program and timeline to illustrate planning capacity and ability to achieve overall objectives. Applicants must identify all U.S. and foreign partner organizations and/or venues with whom they are proposing to collaborate, and describe previous cooperative projects in the section on “Institutional Capacity.” For this competition, applicants must include in their proposal supporting materials or documentation that demonstrates a minimum of five years experience in conducting international arts programs and four years experience in conducting exchange programs with the U.S. Government. Proposals must include references with name and contact information for other assistance awards the applicant has received in the event the Bureau chooses to be in touch directly.

Successful applicants must fully demonstrate a capacity to achieve the following:

(1) Work jointly with foreign and U.S. partners, including Public Affairs Sections of U.S. Missions, and/or contacts to design, develop, and execute a program that achieves the goals described in this solicitation.

(2) Design, build, and implement a program across a three year continuum.

(3) Provide a sound infrastructure for coordination and implementation of the entire program. This refers to both substantive and administrative components of the program, including but not limited to: Receipt, review and recommendations of VAI proposals for possible ECA support; arrangement of international and domestic travel for U.S. artists/approved participants; briefing and orientation of artists prior to departure; visa and passport applications; vaccines and other pre-departure procedures; transfer of funds for honoraria; shipping and insuring of art and other costs allowed by ECA under the approved proposal.

(4) Successful applicants will also have U.S. partners able and willing to provide cost-sharing (including in-kind) in order to help cover program costs.

Desired Program Design

Each year of the grant, ECA will solicit proposals for visual arts projects from Public Affairs Sections (PAS) of U.S. Missions in countries across the globe. The solicitation will be for proposals in a determined/set number of cycles with specific deadlines. The grantee, in turn, will receive these proposals from PAS and review them for accuracy and completion. It will communicate with PAS when additional information or clarification is necessary to obtain a complete and comprehensive proposal. The grantee will review and assess proposals following other criteria to be determined by ECA. Shortly following the cycle deadline, the grantee will present the full package of completed proposals in priority order with recommendations and comments that correspond to criteria set by ECA. The Bureau will make final decisions regarding approval of projects and communicate these to the grantee and to the Public Affairs Section (PAS) located at U.S. Missions abroad. PAS and/or ECA will communicate final decisions to selected U.S. artists. The grantee will subsequently proceed to disburse approved funds to the U.S. artist or his/her designated representative. As applicable, the grantee will make all travel arrangements for the U.S. artist, curator or other approved participant selected by the Bureau to participate in the overseas program. Funds are expected to cover such costs as international travel, honoraria and/or expenses for shipment of art, including insurance. Final determination of funding amounts will be made by ECA as part of its approval of projects. Occasionally, proposals will be received from PAS outside of the cycle deadlines and the grantee may be asked to make a review and recommendation in these instances. The grantee will be expected to put together a final report within a month of the project completion that will include but not be limited to media coverage, reports from PAS, photos or other visuals, reports from the selected artist or other approved participant, and final costs.

Responsibilities

In the cooperative agreement, ECA is substantially involved in program activities above and beyond routine monitoring. ECA responsibilities for this program are as follows:

■ Each year of the grant ECA will make a worldwide solicitation of nominations for visual arts projects from U.S. Missions abroad (Public Affairs Sections).

■ PAS will be one channel for nominations of proposals. Grantee may also propose visual arts projects for consideration by PAS. However, all nominations for consideration under this program must be submitted by PAS to the grantee with a copy to ECA.

■ ECA will review all the nominations as presented by the grantee and make the final selection of projects for award. ECA will also make the final determination regarding funding amount for each proposal approved.

■ ECA will notify PAS and, as appropriate, the U.S. artist/approved participant.

Grantee responsibilities for this program are as follows:

• Design nomination form and draft solicitation message for final approval by ECA.

• Develop a budget that will incrementally allocate the total funding over the life-cycle of the entire project.

• Accept, review and analyze incoming proposals using criteria set by ECA at the initiation of the program. Criteria may include, but is not limited to elements such as artistic quality/excellence of U.S. artist and art; appropriateness of venue, and; opportunities for local outreach. Grantee will need to rely on its expertise in the visual arts in order to provide the necessary analysis addressing matters related to quality of art to be displayed, suitability of U.S. artist selected to represent the U.S., suitability of foreign venue.

• Cyclically present to ECA a package of all received proposals in priority order with recommendations based on expert analysis of all criteria set by ECA.

• For each cycle, the grantee will also provide recommendations for funding of each proposal, and produce a report of past expenditures to include an itemized listing of actual costs compared to budgeted amounts and a detailed plan for the use of any funds not expended and carried over. Grantee will need to rely on its expertise in arts exchanges in order to provide ECA with an appropriate recommendation of suitability of costs for project.

• Once final decisions on proposals have been communicated to PAS by ECA and artists or curators informed by ECA or PAS, begin to process administrative aspects of program, including but not limited to disbursement of moneys to U.S. artists or other envoys, travel arrangements, visa and passport, immunizations, payments and other applicable logistical elements determined by ECA to be necessary in order to support PAS' project.

• Arrange and provide orientation sessions and pre-travel briefings and produce press materials for U.S. artists/envoys. Orientation sessions should address issues of cultural sensitivity for country/ies to be visited by U.S. artist/approved participant/curator.

• Liaise with post and U.S. artist/approved participant/curator as necessary in order to support logistical aspects of the VAI project.

• Within one month from project completion, report on VAI project activities compiling PAS and U.S. artist/envoy reports, media coverage and an evaluation of the project.

II. Award Information

Type of Award: Cooperative Agreement. ECA's level of involvement in this program is listed under number I above.

Fiscal Year Funds: FY-2009.

Approximate Total Funding: $500,000.

Approximate Number of Awards: 1.

Approximate Average Award: $500,000.

Anticipated Award Date: September 1, 2009.

Anticipated Project Completion Dates: December 30, 2011.

Additional Information:

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing, and Matching. In the event you do not provide the minimum amount of cost sharing as stipulated in the approved budget, ECA's contribution will be reduced in like proportion.

III.3. Other Eligibility Requirements

(a.) Bureau grant guidelines require that organizations with less than four years experience in conducting international exchanges be limited to $60,000 in Bureau funding. ECA anticipates making one award of approximately $500,000 to support program and administrative costs required to implement this exchange program. Therefore, organizations with less than four years experience in conducting international exchanges are ineligible to apply under this competition. The Bureau encourages applicants to provide maximum levels of cost sharing and funding in support of its programs.

(b.) Proposals must demonstrate that an applicant has an established resource base of programming contacts and the ability to keep this resource base continuously updated. This resource base should include but is not limited to thematically related institutions (e.g., visual arts organizations), speakers, thematic specialists, and practitioners in a wide range of professional fields in both private and public sectors.

(c.) Technical Eligibility: All proposals must comply with the list of requirements below or they will result in your proposal being declared technically ineligible and given no further consideration in the review process:

—For this competition, all eligible organizations must demonstrate a minimum of five years' experience successfully conducting international arts exchange programs that involved the exchange of participants, as well as at least four years' experience successfully conducting international programs with the U.S. Government.

—Key U.S. partner institutions and their roles in the project must be identified and letters of support provided in the proposal.

IV. Application and Submission Information

Note: Please read the complete announcement before sending inquiries or submitting proposals. Once the RFGP deadline has passed, Bureau staff may not discuss this competition with applicants until the proposal review process has been completed.

IV.1. Contact Information To Request an Application Package

Please contact the Cultural Programs Division of the Office of Citizens' Exchanges of the Bureau of Educational and Cultural Affairs, ECA/PE/P/CU, Room 569, U.S. Department of State, SA-44, 301 4th Street, SW., Washington, DC 20547, 202-453-8175, 202-203-7525, BrooksMM@state.gov, to request a Solicitation Package. Please refer to the Funding Opportunity Number ECA/PE/C/CU-09-50 located at the top of this announcement when making your request.

Alternatively, an electronic application package may be obtained from grants.gov. Please see section IV.3f for further information.

The Solicitation Package contains the Proposal Submission Instruction (PSI) document which consists of required application forms, and standard guidelines for proposal preparation.

Please specify Alan Cross and refer to the Funding Opportunity Number ECA/PE/C/CU-09-50 located at the top of this announcement on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR 62. Therefore, the Bureau expects that any organization receiving an award under this competition will render all assistance necessary to enable the Bureau to fully comply with 22 CFR part 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3d.4. Describe your plans for: Sustainability, overall program management, staffing, coordination with ECA and PAS.

IV.3e. Please take the following information into consideration when preparing your budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification.

IV.3e.2. Allowable costs for the program include the following:

(1) Design and implementation of VAI program (including, as appropriate, staff, administrative expenses, supplies, equipment, production costs for filmmaking project, orientation and de-briefing costs, etc.);

(2) International and domestic travel for U.S. artists/envoys and other costs associated (visas, passports, immunization);

(3) As allowed, costs associated with transportation of art to foreign venue, including insurance;

(4) Costs related to collecting and compiling material for final reports to ECA.

Please refer to the Solicitation Package for complete budget guidelines and formatting instructions.

IV.3f. Application Deadline and Methods Of Submission

Application Deadline Date: May 19, 2009.

Reference Number: ECA/PE/C/CU-09-50.

Methods of Submission: Applications may be submitted in one of two ways:

1. In hard-copy, via a nationally recognized overnight delivery service (i.e., Federal Express, UPS, Airborne Express, or U.S. Postal Service Express Overnight Mail, etc.), or

2. Electronically through http://www.grants.gov.

Please Note: ECA strongly encourages organizations interested in applying for this competition to submit printed, hard copy applications as outlined in section IV.3f.1., below rather than submitting electronically through Grants.gov. This recommendation is being made as a result of the anticipated high volume of grant proposals that will be submitted via the Grants.gov webportal as part of the Recovery Act stimulus package. As stated in this RFGPs, ECA bears no responsibility for data errors resulting from transmission or conversion processes for proposals submitted via Grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and nine (9) copies of the application should be sent to: U.S. Department of State, SA-44, Bureau of Educational and Cultural Affairs, Ref.: ECA/PE/C/CU-09-50, Program Management, ECA/EX/PM, Room 534, 301 4th Street, SW., Washington, DC 20547.

IV.3f.2. Submitting Electronic Applications

Applicants have the option of submitting proposals electronically through Grants.gov (http://www.grants.gov). Complete solicitation packages are available at Grants.gov in the “Find” portion of the system.

Please Note: ECA strongly encourages organizations interested in applying for this competition to submit printed, hard copy applications as outlined in section IV.3f.1. above, rather than submitting electronically through Grants.gov. This recommendation is being made as a result of the anticipated high volume of grant proposals that will be submitted via the Grants.gov webportal as part of the Recovery Act stimulus package. As stated in these RFGPs, ECA bears no responsibility for data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation.

Applicants will receive a validation e-mail from Grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

Optional—IV.3f.3. You may also state here any limitations on the number of applications that an applicant may submit and make it clear whether the limitation is on the submitting organization, individual program director or both.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

1. Program Planning: Detailed agenda and relevant work plan should demonstrate substantive undertakings and logistical capacity. Agenda and plan should adhere to the program overview and guidelines described above.

2. Ability To Achieve Program Objectives: Objectives should be reasonable, feasible, and flexible. Proposals should clearly demonstrate how the institution will meet the program's objectives and plan.

3. Support of Diversity: Proposals should demonstrate substantive support of the Bureau's policy on diversity. Achievable and relevant features should be cited in both program administration (selection of participants, program venue and program evaluation) and program content (orientation and wrap-up sessions, program meetings, resource materials and follow-up activities).

4. Institutional Capacity: Proposed personnel and institutional resources should be adequate and appropriate to achieve the program or project's goals.

5. Institution's Record/Ability: Proposals should demonstrate an institutional record of successful exchange programs, including responsible fiscal management and full compliance with all reporting requirements for past Bureau awards (grants or cooperative agreements) as determined by Bureau Grants Staff. The Bureau will consider the past performance of prior recipients and the demonstrated potential of new applicants.

6. Project Evaluation: Proposals should include a plan to evaluate the activity's success, both as the activities unfold and at the end of the program. A draft survey questionnaire or other technique plus description of a methodology to use to link outcomes to original project objectives is recommended.

7. Cost-effectiveness/Cost-sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b. The following additional requirements apply to this project:

A critical component of current U.S. government Iran policy is the support for indigenous Iranian voices. The State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. 2339A and 2339B; Executive Order 13224; and Homeland Security Presidential Directive 6. These licensing conditions mandate that the Department conduct a vetting of potential Iran grantees and sub-grantees for counter-terrorism purposes. To conduct this vetting the Department will collect information from grantees and sub-grantees regarding the identity and background of their key employees and Boards of Directors.

Note: To assure that planning for the inclusion of Iran complies with requirements, please contact (Cultural Programs Division—Jill Staggs at StaggsJ@state.gov) for additional information.

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Cultural Programs Division, Jill Staggs, StaggsJ@state.gov for additional information.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://fa.statebuy.state.gov.

VI.3. Reporting Requirements

You must provide ECA with a hard copy original plus nine (9) copies of the following reports:

1. A final program and financial report no more than 90 days after the expiration of the award;

2. A concise, one-page final program report summarizing program outcomes no more than 90 days after the expiration of the award. This one-page report will will be transmitted to OMB, and be made available to the public via OMB's USAspending.gov Web site—as part of ECA's Federal Funding Accountability and Transparency Act (FFATA) reporting requirements.

3. A SF-PPR, “Performance Progress Report” Cover Sheet with all program reports.

Award recipients will be required to provide reports analyzing their evaluation findings to the Bureau in their regular program reports. (Please refer to IV. Application and Submission Instructions (IV.3.d.3) above for Program Monitoring and Evaluation information).

All data collected, including survey responses and contact information, must be maintained for a minimum of three years and provided to the Bureau upon request.

All reports must be sent to the ECA Grants Officer and ECA Program Officer listed in the final assistance award document.

VII. Agency Contacts

For questions about this announcement, contact: Alan Cross, Cultural Programs Division, ECA/PE/C/CU, Room 568, ECA/PE/C/CU-09-50, U.S. Department of State, SA-44, 301 4th Street, SW., Washington, DC 20547, 202-203-7497, 202-205-7525, CrossA@state.gov.

All correspondence with the Bureau concerning this RFGP should reference the above title and number ECA/PE/C/CU-09-50.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 8, 2009.
C. Miller Crouch,
Acting Assistant Secretary for Educational and Cultural Affairs, Department of State.

[FR Doc. E9-8677 Filed 4-15-09; 8:45 am]

BILLING CODE 4710-05-P